ENVIRONMENTAL PROTECTION AGENCY

[FRL-9210-7]

National Drinking Water Advisory Council: Request for Nominations

AGENCY: Environmental Protection Agency (EPA).

ACTION: Notice.

SUMMARY: The U.S. Environmental Protection Agency (EPA or Agency) invites all interested persons to nominate qualified individuals to serve a three-year term as members of the National Drinking Water Advisory Council (Council). This 15-member Council was established by the Safe Drinking Water Act (SDWA) to provide practical and independent advice, consultation and recommendations to the Agency on the activities, functions, policies, and regulations required by the SDWA. Each year the terms of five (5) members expire. To maintain the representation required in the statute, nominees for the 2011 Council should represent: State and local officials concerned with public water supply and public health protection (2 vacancies), the general public (1 vacancy) and organizations or groups demonstrating an active interest in the field of public water supply and public health protection (2 vacancies). All nominations will be fully considered, but applicants need to be aware of the specific representation needed as well as geographical balance so that all major areas of the U.S. (East, Mid-West, South, Mountain, South-West, and West) will be represented. The current list of members is available on the EPA Web site at: http://water.epa.gov/aboutow/ogwdw/ndwac/index.cfm.

DATES: Submit nominations on or before October 31, 2010.

ADDRESSES: The preferred form of communication is via e-mail to Eric Bissonette, Alternate Designated Federal Officer, National Drinking Water Advisory Council, @ bissonette.eric@epa.gov. The mailing address is Eric Bissonette, Alternate Designated Federal Officer, U.S. Environmental Protection Agency, Office of Ground Water and Drinking Water (Mail Code 4601-M), 1200 Pennsylvania Avenue, NW., Washington, DC 20460.

FOR FURTHER INFORMATION CONTACT: E-mail your questions to Jacquelyn Springer, @ springer.jacquelyn@epa.gov or call 202-564-9904.

SUPPLEMENTARY INFORMATION: National Drinking Water Advisory Council: The Council consists of 15 members, including a Chairperson, appointed by the Deputy Administrator. Five members represent the general public; five members represent appropriate State and local agencies concerned with public water supply and public health protection; and five members represent private organizations or groups demonstrating an active interest in the field of public water supply and public health protection. SDWA requires that at least two members of the Council represent small, rural public water systems. Additionally, members may be asked to serve on one of the Council's workgroups that are established on an as-needed basis to assist EPA in addressing specific program issues. This notice solicits nominations to fill five new vacancies through April 15, 2014. Persons selected for membership will receive compensation for travel and a nominal daily compensation (if appropriate) while attending meetings. The Council holds two face-to-face meetings each year, generally in the spring and fall. Conference calls will be scheduled if needed.

Nomination of a Member: Any interested person or organization may nominate qualified individuals for membership. Self-nominations are also welcome. EPA values and welcomes diversity. In an effort to obtain nominations of diverse candidates, EPA encourages nominations of women and men of all racial and ethnic groups. Nominees should be identified by name, occupation, position, address and telephone number. To be considered, all nominations must include a current resume, providing the nominee's background, experience and qualifications. Prospective candidates will be required to fill out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation.

Dated: September 30, 2010.
Cynthia C. Dougherty,
Director, Office of Ground Water and Drinking Water.

[FR Doc. 2010-25125 Filed 10-5-10; 8:45 am]

BILLING CODE 6560-50-P